DEPARTMENT OF TRANSPORTATION

Federal Transit Administration

Fiscal Year 2017 Low or No Emission Grant Program Project Selections

AGENCY: Federal Transit Administration, DOT.

ACTION: Notice of project selections; Low or No Emission Grants Program announcement of project selections.

SUMMARY: The U.S. Department of Transportation's (DOT) Federal Transit Administration (FTA) announces the selection of projects with Fiscal Year (FY) 2017 appropriations for the Low or No Emission Grants Program (Low-No Program). Federal transit law authorized $55 million for competitive allocations in FY 2017. On April 27, 2017, FTA published a Notice of Funding Opportunity (NOFO) announcing the availability of $55 million in competitive funding under the Low-No Program. These program funds will provide financial assistance to purchase or lease low or no emission vehicles that use advanced technologies, including related equipment or facilities, for transit revenue operations.

FOR FURTHER INFORMATION CONTACT: Successful applicants should contact the appropriate FTA Regional Office for information regarding applying for the funds or program-specific information. A list of Regional Offices can be found at www.fta.dot.gov. Unsuccessful applicants may contact Tara Clark, Office of Program Management at (202) 366-2623, email: Tara.Clark@dot.gov, to arrange a proposal debriefing within 30 days of this announcement. A TDD is available at 1-800-877-8339 (TDD/FIRS).

SUPPLEMENTARY INFORMATION: In response to the NOFO (82 FR 19447), FTA received 128 proposals from 40 states requesting $515 million in Federal funds. Project proposals were evaluated based on each applicant's responsiveness to the program evaluation criteria outlined in the NOFO. FTA is funding 51 projects as shown in Table 1 for a total of $55 million, as authorized by Section 5339(c) of Title 49, United States Code.

Recipients selected for competitive funding should work with their FTA Regional Office to submit a grant application in FTA's Transit Award Management System (TrAMs) for the projects identified in the attached table to quickly obligate funds. Grant applications must only include eligible activities applied for in the original project application. Funds must be used consistent with the competitive proposal and for the eligible capital purposes established in the NOFO and described in the FTA Circular 5100.1.

In cases where the allocation amount is less than the proposer's total requested amount, recipients are required to fund the scalable project option as described the application. If the award amount does not correspond to the scalable option, for example due to a cap on the award amount, the recipient should work with the Regional Office to reduce scope or scale the project such that a complete phase or project is accomplished.

A discretionary project identification number has been assigned to each project for tracking purposes and must be used in the TrAMs application. Selected projects are eligible to incur costs under pre-award authority no earlier than the date successful projects were first publicly announced, September 15, 2017. Pre-award authority does not guarantee that project expenses incurred prior to the award of a grant will be eligible for reimbursement, as eligibility for reimbursement is contingent upon other requirements, such as planning and environmental requirements, having been met. For more about FTA's policy on pre-award authority, please see the FTA Fiscal Year 2017 Apportionments, Allocations, and Program Information and Interim Guidance found in 82 FR 6692 (January 19, 2017). Post-award reporting requirements include submission of the Federal Financial Report and Milestone Progress Reports in TrAMs as appropriate (see FTA.C.5010.1E). Recipients must comply with all applicable Federal statutes, regulations, executive orders, FTA circulars, and other Federal requirements in carrying out the project supported by the FTA grant. Selected projects that include partnerships have satisfied the competitive procurement requirement through the competitive selection process. FTA emphasizes that all other recipients must follow all third-party procurement guidance as authorized by 49 U.S.C. 5325(a) and described in FTA.C.4220.1F. Funds are available for a period of 3 years. Accordingly, funds allocated in this announcement must be obligated in a grant by September 30, 2020.

K. Jane Williams,
Acting Administrator.

Table 1—FY 17 Low or No Emission Project Selections
State | Recipient | Project ID | Project description | Allocation
AK | Alaska Department of Transportation & Public Facilities | D2017-LWNO-001 | Purchase battery-electric buses, associated charging infrastructure and a back-up generator | $408,130
AL | Alabama A&M University | D2017-LWNO-002 | Purchase battery-electric buses and a charging station | 1,000,000
CA | City of Fairfield | D2017-LWNO-003 | Purchase battery-electric buses and charging infrastructure | 1,225,000
CA | City of Los Angeles, Department of Transportation | D2017-LWNO-004 | Purchase battery-electric buses with a capitalized lease for the battery, and install charging stations | 1,225,000
CA | Napa Valley Transportation Authority | D2017-LWNO-005 | Purchase battery-electric buses and depot chargers | 1,092,250
CA | Redding Area Bus Authority | D2017-LWNO-006 | Purchase battery-electric buses, charging and maintenance equipment, and conduct staff training | 746,456
CA | Antelope Valley Transit Authority | D2017-LWNO-007 | Purchase battery-electric buses and depot chargers | 705,347
CO | State of Colorado Department of Transportation | D2017-LWNO-008 | Purchase battery-electric buses for three rural transit operators | 1,450,000
CT | Greater Bridgeport Transit Authority | D2017-LWNO-009 | Purchase battery-electric buses, depot chargers, and conduct staff training | 1,450,000
DE | Delaware Transit Corporation | D2017-LWNO-010 | Purchase battery-electric buses and on-route/depot charging equipment | 1,000,000
FL | City of Gainesville | D2017-LWNO-011 | Purchase battery-electric buses and depot chargers | 1,000,000
FL | Pinellas Suncoast Transit Authority | D2017-LWNO-012 | Purchase battery-electric buses and on-route/depot chargers | 1,000,000
FL | The Jacksonville Transportation Authority | D2017-LWNO-013 | Purchase battery-electric buses and chargers | 1,000,000
FL | County of Broward | D2017-LWNO-014 | Purchase battery-electric buses and depot chargers | 1,000,000
FL | City of Tallahassee | D2017-LWNO-015 | Purchase battery-electric buses and on-route chargers | 1,000,000
GA | Georgia Department of Transportation | D2017-LWNO-016 | Purchase battery-electric buses and charging infrastructure | 1,750,000
HI | City and County of Honolulu | D2017-LWNO-017 | Purchase battery-electric buses and depot chargers | 1,450,000
IA | Des Moines Area Regional Transit Authority (DART) | D2017-LWNO-018 | Purchase battery-electric buses and charging infrastructure | 1,450,000
ID | Mountain Rides Transportation Authority | D2017-LWNO-019 | Purchase battery-electric buses and fast charging station | 500,000
IL | Bloomington-Normal Public Transit System | D2017-LWNO-020 | Purchase battery-electric buses and install solar panels to support charging infrastructure | 1,450,000
IL | Champaign-Urbana Mass Transit | D2017-LWNO-021 | Purchase hydrogen fuel-cell electric articulated buses and hydrogen fueling infrastructure | 1,450,000
IN | Indianapolis Public Transportation Corporation | D2017-LWNO-022 | Upgrade electrical infrastructure at operations facility to charge electric buses | 1,450,000
KY | Transit Authority of Lexington (Lextran) | D2017-LWNO-023 | Purchase battery-electric buses and two on-route charging stations | 1,000,000
LA | Capital Area Transit System | D2017-LWNO-024 | Purchase battery-electric buses, depot chargers and on route fast charger | 500,000
LA | Lafayette City-Parish Consolidated Government | D2017-LWNO-025 | Purchase electric buses and overnight charging stations | 500,000
MA | Massachusetts Department of Transportation | D2017-LWNO-026 | Purchase battery-electric buses and an energy storage system | 1,200,000
MD | Montgomery County Maryland | D2017-LWNO-027 | Purchase battery-electric buses and depot chargers | 1,750,000
MI | Mass Transportation Authority (Flint) | D2017-LWNO-028 | Purchase battery-electric buses and charging stations | 500,000
MN | Metropolitan Council/Metro Transit | D2017-LWNO-029 | Purchase battery-electric buses and charging equipment | 1,750,000
MO | Bi-State Development Agency | D2017-LWNO-030 | Purchase battery-electric buses and charging equipment | 1,450,000
MT | Missoula Urban Transportation District | D2017-LWNO-031 | Purchase battery-electric buses and depot chargers | 500,000
NC | City of Asheville | D2017-LWNO-032 | Purchase battery-electric buses and chargers | 633,333
NE | City of Lincoln, Nebraska | D2017-LWNO-033 | Purchase battery-electric buses and charging stations | 1,450,000
NJ | New Jersey Transit | D2017-LWNO-034 | Purchase battery-electric buses, charging equipment and conduct staff training | 500,000
NM | City of Las Cruces | D2017-LWNO-035 | Purchase battery-electric buses, depot chargers, and upgrade a maintenance facility | 1,450,000
NV | Tahoe Transportation District | D2017-LWNO-036 | Purchase one battery-electric bus | 850,000
NY | Rochester Genesee Regional Transportation Authority | D2017-LWNO-037 | Purchase electric buses, related maintenance equipment, and a charging system | 1,000,000
OH | Stark Area Regional Transit Authority | D2017-LWNO-038 | Purchase hydrogen fuel-cell buses | 1,750,000
OK | Central Oklahoma Transportation and Parking Authority | D2017-LWNO-039 | Purchase battery-electric buses and charging equipment, and conduct staff training | 797,550
OR | Oregon Department of Transportation | D2017-LWNO-040 | Purchase battery-electric buses, depot chargers, and conduct staff training | 1,450,000
PA | Port Authority of Allegheny County | D2017-LWNO-041 | Purchase battery-electric buses, charging stations, and associated training | 500,000
SC | South Carolina Department of Transportation | D2017-LWNO-042 | Purchase battery-electric buses and depot chargers | 1,450,000
SC | Greenville Transit Authority | D2017-LWNO-043 | Purchase battery-electric buses and chargers | 1,450,000
TN | Nashville Metropolitan Transit Authority | D2017-LWNO-044 | Purchase battery-electric buses and conduct staff training | 500,000
TX | City of Lubbock/Citibus | D2017-LWNO-045 | Purchase battery-electric buses and on-route/depot charging equipment | 1,750,000
TX | VIA Metropolitan Transit | D2017-LWNO-046 | Purchase battery-electric buses, charging equipment, and conduct staff training | 1,750,000
UT | Utah Department of Transportation | D2017-LWNO-047 | Purchase battery-electric buses and depot chargers | 500,000
VA | Transportation District Commission of Hampton Roads | D2017-LWNO-048 | Purchase battery-electric buses and charging equipment | 500,000
VT | Vermont Agency of Transportation | D2017-LWNO-049 | Purchase battery-electric buses | 480,000
WA | Kitsap County Public Transportation Benefit Area Authority | D2017-LWNO-050 | Purchase battery-electric buses and charging infrastructure | 1,000,000
WI | City of Madison | D2017-LWNO-051 | Purchase battery-electric buses, depot chargers, and conduct staff training | 1,278,950

[FR Doc. 2018-05464 Filed 3-16-18; 8:45 am]

BILLING CODE P